DEPARTMENT OF HEALTH AND HUMAN SERVICES

Health Care Financing Administration

[Document Identifiers: HCFA-R-296 (OMB # 0938-0781)]

Intent of Emergency Clearance: Public Information Collection Meeting To Discuss Requirements To Be Resubmitted to the Office of Management and Budget (OMB) Concerning the Home Health Agency Beneficiary Notices

In compliance with the requirement of section 3506(c)(2)(A) of the Paperwork Reduction Act of 1995, in the near future, the Health Care Financing Administration (HCFA), Department of Health and Human Services (DHHS), will be submitting to the Office of Management and Budget (OMB) a request for Emergency review of the revised Home Health Advance Beneficiary Notice (HHABN).

We will be requesting an emergency review because the collection of this information is needed prior to the expiration of the normal time limits under OMB's regulations at 5 CFR part 1320. Due to the requirement to implement the home health agency (HHA) prospective payment system (PPS), on or about October 1, 2000, the Agency cannot reasonably comply with the normal clearance procedures because public harm is likely to result because eligible individuals will not receive their health insurance protections required under Federal law.

In order to fairly evaluate whether an information collection should be approved by OMB, consistent with section 3506(c)(2)(A) of the PRA, HCFA will hold a public meeting to permit interested parties an opportunity to give their views on how the content and distribution of the HHABNs may need to be revised in order to accomodate the changes associated with the implementation of the HHA prospective payment system. Representatives of the HHA industry, health care consumer advocacy groups, and provider groups, and other members of the public who wish to participate in the public meeting are asked to notify the Agency in advance of their interest in attending. At this meeting, the Health Care Financing Administration will solicit comments on the following issues:

• The need for the information collection and its usefulness in carrying out the proper functions of our agency.

• The accuracy of our estimate of the information collection burden.

• The quality, utility, and clarity of the information to be collected.

• Recommendations to minimize the information collection burden on the affected public, including automated collection techniques.

• Relevance of comments received on the HHABNs previously published in the Federal Register.

The public meeting will be held on Tuesday, July 25, 2000, from 1-5 p.m., in the Multipurpose Room (Capacity: 100 persons) of the Health Care Financing Administration, 7500 Security Boulevard, Baltimore, Maryland 21244. Interested parties should provide notification of their planned attendance to John Burke either via telephone (401) 786-1325, fax (410) 786-0262, or e-mail: jburke1@hcfa.gov. by no later than 3 p.m., Friday, July 21, 2000.

Dated: July 17, 2000.
Edward A. King,
Deputy Director, Office of Information Services, Security and Standards Group, Health Care Financing Administration.

[FR Doc. 00-18441 Filed 7-19-00; 8:45 am]

BILLING CODE 4120-03-P